DEPARTMENT OF TRANSPORTATION

National Highway Traffic Safety Administration

[Docket No. NHTSA-2015-0109]

National Emergency Medical Services Advisory Council (NEMSAC) and Federal Interagency Committee on Emergency Medical Services (FICEMS); Notice of Federal Advisory Committee Meeting

AGENCY: National Highway Traffic Safety Administration (NHTSA), U.S. Department of Transportation (DOT)

ACTION: Meeting Notice—National Emergency Medical Services Advisory Council and Federal Interagency Committee on Emergency Medical Services

SUMMARY: The NHTSA announces meetings of NEMSAC and FICEMS to be held consecutively in the Metropolitan Washington, DC, area. This notice announces the date, time, and location of the meetings, which will be open to the public, as well as opportunities for public input to the NEMSAC and FICEMS. The purpose of NEMSAC, a nationally recognized council of emergency medical services representatives and consumers, is to advise and consult with DOT and the FICEMS on matters relating to emergency medical services (EMS). The purpose of FICEMS is to ensure coordination among Federal agencies supporting EMS and 9-1-1 systems.

DATES: The NEMSAC meeting will be held on December 1, 2015 from 9 a.m. to 12:30 p.m. EST, and on December 1, 2015 from 9 a.m. to 11:30 a.m. EST. A public comment period will take place on December 1, 2015 between 12:15 p.m. and 12:30 p.m. EST and December 2, 2015 between 10:45 a.m. and 11 a.m. EST. NEMSAC committees will meet in the same location on Tuesday, December 1, 2015 from 2 p.m. to 5 p.m. EST. Written comments for the NEMSAC from the public must be received no later than November 25, 2015.

The FICEMS meeting will be held on December 2, 2015 from 12:30 p.m. to 3:30 p.m. EST. A public comment period will take place on December 2, 2015 between approximately 3 p.m. and 3:30 p.m. EST. Written comments for FICEMS from the public must be received no later than November 25, 2015.

ADDRESSES: The meetings will be held at the Thomas “Tip” O'Neill Building, 200 C Street SW. (Corner of 3rd Street and C, SW.—large glass building on the southeast corner), Washington, DC 20201. Lower Level—Willow Conference Room. Attendees should plan to arrive 20 minutes early to accommodate security screening.

FOR FURTHER INFORMATION CONTACT: Gamunu Wijetunge, U.S. Department of Transportation, Office of Emergency Medical Services, 1200 New Jersey Avenue SE., NTI-140, Washington, DC 20590, Gamunu.Wijetunge@dot.gov or 202-493-2793.

SUPPLEMENTARY INFORMATION: Notice of these meetings is given under the Federal Advisory Committee Act, Public Law 92-463, as amended (5 U.S.C. App.). The NEMSAC is authorized under Section 31108 of the Moving Ahead with Progress in the 21st Century Act of 2012. The FICEMS is authorized under Section 10202 of the Safe, Accountable, Flexible, Efficient Transportation Equity Act: A Legacy for Users (SAFETEA-LU).

Tentative Agenda of the National EMS Advisory Council Meeting

The tentative NEMSAC agenda includes the following:

Tuesday, December 1, 2015 (9 a.m. to 12:30 p.m. EST)

(1) Opening Remarks

(2) Federal Liaison Update-Reports and Updates from the Departments of Transportation, Homeland Security, and Health & Human Services

(3) Disclosure of Conflicts of Interests by Members

(4) Overview of New NEMSAC Committees:

a. Funding and Reimbursement

b. Innovative Practices of EMS Workforce

c. Data Integration and Technology

d. Patient Care, Quality Improvement and General Safety

e. Provider and Community Education

f. Ad Hoc Committee on Recognition of EMS Personnel Licensure Interstate Compact (REPLICA)

(5) Public Comment Period (12:15 p.m. to 12:30 p.m. EST)

(6) Recess for Day-12:30 p.m. EST

NEMSAC Committees Breakout Sessions from 2 p.m.-5 p.m. (on-site and open to the public)

Wednesday, December 2, 2015 (9 a.m. to 11:30 a.m. EST)

(1) Reconvene and Approval of July 30-31, 2015 Meeting Minutes (9 a.m.-9:30 a.m. EST)

(2) Presentation on “Fatigue in EMS” Project-NHTSA (9:10 a.m.-9:30 a.m. EST)

(3) NEMSAC Committee Reports/Updates/Discussion (9:30 a.m.-10:45 a.m. EST)

(4) Public Comment Period (10:45 a.m. to 11 a.m. EST)

(5) Next Steps and Adjourn (11 a.m.-11:30 a.m. EST)

Tentative Agenda of the Federal Interagency Committee on EMS Meeting

Wednesday, December 2, 2015 (12:30 p.m. to 3:30 p.m. EST)

(1) Welcome, Introductions and Opening Remarks from Ed Gabriel, Chair

(2) Review and Approval of Executive Summary of August 12, 2015 Meeting

(3) NEMSAC Report (John Sinclair, NEMSAC Chair)

(4) Technical Working Group (TWG) Committee Reports

a. Strategic Planning Implementation Update

b. EMS Data Standardization and Exchange

c. Preparedness

d. Evidence-based Practice and Quality

e. Workforce and Veterans Credentialing

f. Safety

(5) Update from EMS for Children: Performance Measures, Pediatric Emergency Care Applied Research Network (PECARN), and Funding Opportunities (EMS for Children Staff)

(6) Other FICEMS Business

(7) Public Comment Period (approximately 3 p.m. EST)

(8) Election of 2016 FICEMS Chair and Vice-Chair

(9) Next Steps and Adjourn

Registration Information: These meetings will be open to the public; however, pre-registration is requested. Individuals wishing to attend must register online no later than November 27, 2015. For NEMSAC please register at: https://www.SignUp4.net/public/ap.aspx?EID=NEMS13E. For FICEMS please register at: https://www.SignUp4.net/public/ap.aspx?EID=FICE11E. For assistance with registration, please contact Gamunu Wijetunge at Gamunu.Wijetunge@dot.gov or 202-493-2793. There will not be a teleconference option for these meetings.

Public Comment: Members of the public are encouraged to comment directly to the NEMSAC and FICEMS during designated public comment periods. In order to allow as many people as possible to speak, speakers are requested to limit their remarks to 5 minutes. Written comments from members of the public will be distributed to NEMSAC or FICEMS members at the meeting and should reach the NHTSA Office of EMS no later than November 27, 2015. Written comments may be submitted by either one of the following methods: (1) You may submit comments by email: nemsac@dot.gov or ficems@dot.gov or (2) you may submit comments by fax: (202) 366-7149.

A final agenda as well as meeting materials will be available to the public online through www.EMS.gov on or before November 27, 2015.

Issued on: November 12, 2015.
Jeffrey P. Michael,
Associate Administrator for Research and Program Development.

[FR Doc. 2015-29421 Filed 11-17-15; 8:45 am]

BILLING CODE 4910-59-P